DEPARTMENT OF COMMERCE

National Oceanic and Atmospheric Administration

50 CFR Part 635

[Docket No. 250410-0063; RTID 0648-XE484]

Atlantic Highly Migratory Species; 2025 Atlantic Shark Commercial Fishing Year

AGENCY: National Marine Fisheries Service (NMFS), National Oceanic and Atmospheric Administration (NOAA), Commerce.

ACTION: Temporary final rule.

SUMMARY: In this action, NMFS adjusts the base annual commercial quotas for the 2025 Atlantic shark commercial fishing year as allowable based on underharvests from the 2024 fishing year. The 2025 Atlantic shark commercial fishing year opened on January 1, 2025 under the base annual commercial quotas and default commercial retention limits. This action is necessary to provide additional fishing opportunities for commercial shark fishermen to harvest optimum yield from the Atlantic shark fisheries.

DATES: This temporary final rule is effective April 16, 2025 through December 31, 2025.

ADDRESSES: Electronic copies of this temporary final rule and supporting documents (including the annual Atlantic Highly Migratory Species (HMS) Stock Assessment and Fishery Evaluation Report) are available from the HMS Management Division website at: https://www.fisheries.noaa.gov/topic/atlantic-highly-migratory-species or by contacting Ann Williamson at ann.williamson@noaa.gov or 301-427-8503.

FOR FURTHER INFORMATION CONTACT: Ann Williamson (ann.williamson@noaa.gov), Guy DuBeck (guy.dubeck@noaa.gov), or Karyl Brewster-Geisz (karyl.brewster-geisz@noaa.gov) at 301-427-8503.

SUPPLEMENTARY INFORMATION:

Background

NMFS, on behalf of the Secretary of Commerce, is responsible for managing Federal HMS fisheries (i.e., tunas, swordfish, sharks, and billfish) pursuant to the Magnuson-Stevens Fishery Conservation and Management Act (Magnuson-Stevens Act) (16 U.S.C. 1801 et seq.) and consistent with the Atlantic Tunas Convention Act (16 U.S.C. 971 et seq.). HMS are defined at 16 U.S.C. 1802 and the provisions for their management are at 16 U.S.C. 1854. The Atlantic Tunas Convention Act is the implementing statute for binding recommendations of the International Commission for the Conservation of Atlantic Tunas. NMFS manages HMS fisheries under the 2006 Consolidated HMS Fishery Management Plan (FMP) and its amendments. HMS implementing regulations are at 50 CFR part 635.

For the Atlantic shark commercial fisheries, the HMS FMP and its amendments established commercial quotas for shark species and management groups (§ 635.27(b)) and adjustment procedures for underharvests and overharvests (§ 635.27(b)(2)). The Atlantic shark commercial fishing year automatically opens on January 1 of each year under base quotas (§ 635.27(b)(2)).

Previously, NMFS adjusted quotas and retention limits and established the opening date for the upcoming fishing year for the Atlantic shark commercial fisheries (80 FR 50074, August 18, 2015). Under the process established in 2015, NMFS proposed and finalized adjustments to quota levels for the various shark stocks and management groups, along with proposing and finalizing the fishery opening dates and retention limits for directed shark permit holders. These measures were set prior to the start of the upcoming fishing year, based on incomplete data available from the previous fishing year. In 2023, NMFS changed the management measures for the 2024 and future fishing years to automatically open the commercial fishing year on January 1 of each year under the base quotas and default retention limits (88 FR 77039, November 8, 2023). Now with the Atlantic shark commercial fishery automatically opening on January 1, NMFS can then make an in-season adjustment to the base quotas, as required or allowable per existing regulations on underharvest/overharvest carryover at § 635.27(b)(2), based on complete data from the previous fishing year. NMFS would continue to propose and finalize any changes to the base quotas and/or changes to the formula used to calculate any annual quota adjustments as it did in Amendment 9 to the HMS FMP (80 FR 73128, November 24, 2015). The Atlantic shark fishery in-season quota adjustment process is consistent with the in-season quota adjustment process for other HMS fisheries with set opening dates, including those for Atlantic bluefin tuna, North Atlantic albacore tuna, and South Atlantic swordfish (see 89 FR 77029, September 20, 2024 and 88 FR 64831, September 20, 2023).

The 2025 Atlantic shark commercial fishing year opened on January 1, 2025 under the base annual commercial quotas. In this action, NMFS adjusts those base annual commercial quotas based on commercial landings estimates from 2024.

On January 20, 2025, President Trump issued Executive Order (E.O.) 14172 (Restoring Names that Honor American Greatness). As part of the order, the Gulf of Mexico is renamed as the Gulf of America. Consistent with the order, this action uses Gulf of America for all references to the area known as the Gulf of Mexico in the specific regulations at 50 CFR part 635.

Statutory Authority

The Magnuson-Stevens Act provides NMFS the authority to take this regulatory action as 16 U.S.C. 1855(d) provides for the promulgation of such regulations as may be necessary to implement a fishery management plan and its amendments such as the HMS FMP. The Magnuson-Stevens Act among other things, requires FMP and FMP implementing measures necessary for the conservation and management of the fishery to be consistent with the ten National Standards set forth in 16 U.S.C. 1851(a). While all of the National Standards are relevant, specific to the objectives of this action, the National Standards state that measures must: prevent overfishing while achieving optimum yield from the fishery (National Standard 1); be based on the best scientific information available (National Standard 2); and take into account and allow for variations among fisheries, fishery resources, and catches (National Standard 6). Furthermore, the Magnuson-Stevens Act allows NMFS to implement annual specifications at a level such that overfishing does not occur in the fishery, including measures to ensure accountability (16 U.S.C. 1853(a)(15)). The Magnuson-Stevens Act also allows management actions to establish specified limitations which are necessary and appropriate for the conservation and management of the fishery on the catch of fish (based on area, species, size, number, weight, sex, bycatch, total biomass, or other factors) (16 U.S.C. 1853(b)(3)(A)). This action is necessary to implement HMS FMP measures responsive to these Magnuson-Stevens Act requirements and provisions in relation to commercial shark quota adjustments.

2025 Commercial Atlantic Shark Quotas

In this action, NMFS adjusts the quotas for the various shark stocks and management groups for the 2025 Atlantic shark commercial fishing year (i.e., January 1 through December 31, 2025) based on underharvests that occurred during the 2024 fishing year, consistent with existing regulations at § 635.27(b). NMFS generally accounts for over- and underharvests in the same region, sub-region, or fishery in which they occurred the following year. NMFS may only carryover unharvested quota to the next fishing year for shark species and management groups comprised of stocks that NMFS has determined are not overfished and not experiencing overfishing (§ 635.27(b)(2)(ii)). NMFS may not carry more than 50 percent of a base annual quota over from a previous fishing year. NMFS may further adjust these adjusted quotas in a future action by transferring quotas between regions or sub-regions throughout the year after considering the certain criteria (§ 635.27(b)(2)(iii))

Based on 2024 harvests (January 1, 2024 through December 31, 2024), and after considering catch rates and landings from previous years, NMFS adjusts the 2025 quotas for certain management groups as shown in Table 1.

As described above, NMFS can carry over 2024 underharvests to the 2025 fishing year for the following management groups because the stocks or management groups are not overfished and overfishing is not occurring: Gulf of America blacktip shark, Atlantic smoothhound sharks, and Gulf of America smoothhound sharks. There were no overharvests to account for in these management groups in 2024. Thus, available underharvest (up to 50 percent of the base quota) from the 2024 fishing year for these management groups may be added to their respective 2025 base quotas. NMFS accounts for any underharvest of Gulf of America blacktip sharks by dividing underharvest between the eastern and western Gulf of America sub-regional quotas based on the sub-regional quota split percentage (§ 635.27(b)(1)(ii)(C)).

NMFS cannot carry over 2024 underharvests to the 2025 fishing year for the following management groups because the stocks or management groups are overfished, are experiencing overfishing, or have an unknown status:

• Aggregated large coastal sharks (LCS), given the unknown status of some species in the aggregated LCS complex;

• Hammerhead sharks, given the overfished status of the scalloped hammerhead shark;

• Non-blacknose small coastal sharks (SCS), given the unknown status of bonnethead sharks within Atlantic and Gulf of America non-blacknose SCS management groups;

• Blacknose shark, given the overfished status of the blacknose shark;

• Blue, porbeagle, and pelagic sharks (other than porbeagle or blue sharks), given that all of these pelagic species are overfished, have overfishing occurring, or have an unknown status; and

• Sandbar shark and research LCS, given sandbar sharks and scalloped hammerhead sharks are either overfished or overfishing is occurring.

For the management groups listed above, there were no overharvests in 2024. Thus, for these management groups, the 2025 commercial quotas reflect the codified base annual commercial quotas, without adjustment for over- or underharvest.

See Table 1 for the 2024 commercial quotas, landings, and quota utilization by species and management group and the 2025 commercial quotas by species and management group. As mentioned above, NMFS may carryover unharvested quota (up to 50 percent of the base quota) to the next fishing year for shark species and management groups comprised of stocks that NMFS has determined are not overfished and not experiencing overfishing. All quotas and landings are in dressed weight (dw) metric tons (mt). Table 1 includes landings data from January 1, 2024 through December 31, 2024.

Table 1—2025 Quotas for the Atlantic Shark Management Groups
Region or sub-region | Management group | 2024: Adjusted quota | 2024: Landings | 2024: Quota utilization % | 2025: Base annual quota | 2025: Adjustments | 2025: Adjusted quota
|  | (A) | (B) | (C) | (D) | (E) | (F)
Western Gulf of America | Blacktip Sharks | 347.2 mt (765,392 lb) | 82.7 mt (182,333 lb) | 24 | 231.5 mt (510,261 lb) | 115.7 mt (225,131 lb) | 347.2 mt (765,392 lb)
| Aggregate Large Coastal Sharks | 72.0 mt (158,724 lb) | 29.8 mt (65,721 lb) | 41 | 72.0 mt (158,724 lb) |  | 72.0 mt (158,724 lb)
| Hammerhead Sharks | 11.9 mt (26,301 lb) | 0 mt (0 lb) | 0 | 11.9 mt (26,301 lb) |  | 11.9 mt (26,301 lb)
Eastern Gulf of America | Blacktip Sharks | 37.7 mt (83,158 lb) | 22.1 mt (48,652 lb) | 59 | 25.1 mt (55,439 lb) | 12.6 mt (27,719 lb) | 37.7 mt (83,158 lb)
| Aggregate Large Coastal Sharks | 85.5 mt (188,593 lb) | 23.7 mt (52,144 lb) | 28 | 85.5 mt (188,593 lb) |  | 85.5 mt (188,593 lb)
| Hammerhead Sharks | 13.4 mt (29,421 lb) | <6 mt (<13,228 lb) | <45 | 13.4 mt (29,421 lb) |  | 13.4 mt (29,421 lb)
Gulf of America | Non Blacknose Small Coastal Sharks | 112.6 mt (248,215 lb) | 53.9 mt (118,841 lb) | 48 | 112.6 mt (248,215 lb) |  | 112.6 mt (248,215 lb)
| Smoothhound Sharks | 504.6 mt (1,112,441 lb) | <1 mt (<2,205 lb) | <1 | 336.4 mt (741,627 lb) | 168.2 mt (370,814 lb) | 504.6 mt (1,112,441 lb)
Atlantic | Aggregate Large Coastal Sharks | 168.9 mt (372,552 lb) | 84.2 mt (185,731 lb) | 50 | 168.9 mt (372,552 lb) |  | 168.9 mt (372,552 lb)
| Hammerhead Sharks | 27.1 mt (59,736 lb) | 17.8 mt (39,191 lb) | 66 | 27.1 mt (59,736 lb) |  | 27.1 mt (59,736 lb)
| Non-Blacknose Small Coastal Sharks | 264.1 mt (582,333 lb) | 77.7 mt (171,377 lb) | 29 | 264.1 mt (582,333 lb) |  | 264.1 mt (582,333 lb)
| Blacknose Sharks (South of 34° N. lat. Only) | 17.2 mt (37,921 lb) | 5.4 mt (11,852 lb) | 31 | 17.2 mt (37,921 lb) |  | 17.2 mt (37,921 lb)
| Smoothhound Sharks | 1,802.6 mt (3,973,902 lb) | 333.8 mt (735,890 lb) | 19 | 1,201.7 mt (2,649,268 lb) | 600.9 mt (1,324,634 lb) | 1,802.6 mt (3,973,902 lb)
No Regional Quotas | Non-Sandbar LCS Research | 50.0 mt (110,230 lb) | 9.1 mt (20,06 lb) | 18 | 50.0 mt (110,230 lb) |  | 50.0 mt (110,230 lb)
| Sandbar Shark Research | 90.7 mt (199,943 lb) | 56 mt (123,059 lb) | 62 | 90.7 mt (199,943 lb) |  | 90.7 mt (199,943 lb)
| Blue Sharks | 273.0 mt (601,856 lb) | <1 mt (<2,205 lb) | <1 | 273.0 mt (601,856 lb) |  | 273.0 mt (601,856 lb)
| Porbeagle Sharks | 1.7 mt (3,748 lb) | <1 mt (<2,205 lb) | <30 | 1.7 mt (3,748 lb) |  | 1.7 mt (3,748 lb)
| Pelagic Sharks Other Than Porbeagle or Blue | 488.0 mt (1,075,856 lb) | 16.3 mt (35,963 lb) | 3 | 488.0 mt (1,075,856 lb) |  | 488.0 mt (1,075,856 lb)
NMFS can only apply underharvest adjustments to stocks or management groups that are declared not overfished and have no overfishing occurring. The underharvest adjustments cannot exceed 50 percent of the base quota. NMFS calculated the adjusted quotas (Column F) are by adding the underharvest amount, up to the carryover limit (Column E), to the base annual commercial quota (Column D).

Classification

NMFS is issuing this rule pursuant to section 305(d) of the Magnuson-Stevens Act. The reason for using this regulatory authority is: in a previous action taken pursuant to section 304(c), NMFS designed the HMS FMP to authorize the Department of Commerce to take this action pursuant to the Magnuson-Stevens Act section 305(d). The NMFS Assistant Administrator has determined that this temporary final rule is consistent with the HMS FMP, its amendments, and other applicable law.

Pursuant to 5 U.S.C. 553(b)(B), there is good cause to waive prior notice and an opportunity for public comment on this action, as notice and comment would be impracticable, unnecessary, and contrary to the public interest. The rulemaking processes for Amendment 2 to the HMS FMP (73 FR 35778, June 24, 2008; corrected 73 FR 40658, July 15, 2008), Amendment 5a to the HMS FMP (78 FR 40318, July 3, 2013), Amendment 6 to the HMS FMP (80 FR 50073, August 18, 2015), Amendment 9 to the HMS FMP (80 FR 73128, November 24, 2015), and the 2024 Atlantic shark commercial fishing year rule (88 FR 77039, November 8, 2023) specifically provided prior notice of, and accepted public comment on, the base quotas that are being adjusted and the formulaic quota adjustment processes to carry over overharvests and underharvests for the commercial Atlantic shark fishery. These processes have not changed, and the application of these formulas to the relevant quotas in this temporary final rule is a routine action that does not have discretionary aspects requiring additional consideration. There are no new base annual quotas for the relevant species for 2025. Additionally, similar actions to adjust the quotas based on the previous year's underharvest occur annually. NMFS has carried over underharvested quota from the previous fishing year to the maximum extent allowed since 2020. Thus, it is unnecessary to provide prior notice and an additional opportunity for public comment on this rule.

There is good cause under 5 U.S.C. 553(d)(3) to waive the 30-day delay in effective date. This rule is an annual, routine action that the regulated community does not need time to prepare for. The 2025 Atlantic shark commercial fishery opened on January 1, 2025. NMFS monitors Atlantic shark annual catch and uses the previous year's catch data to calculate the legally allowable quotas for the current year. However, these adjustments to the 2025 quotas could not occur earlier in the year because the final 2024 landings data were not available until early 2025. Given that these fisheries are currently open and permit-holders are actively fishing, delaying the effective date of this rule's quota adjustments could in turn lead to premature closure of one or more affected fisheries if the unadjusted quota limit is reached within the next 30 days. Such an event would negatively affect the regulated fisheries' reasonable opportunity to catch the available quotas, contrary to Magnuson-Stevens Act requirements and overall purpose of sound conservation and management of fisheries—including Atlantic sharks—in a manner that achieves optimum yield.

This temporary final rule is exempt from review under E.O. 12866. This temporary final rule is not a regulatory action under E.O. 14192.

NMFS has determined that this action would not have a substantial direct effect on one or more Indian Tribes, on the relationship between the Federal Government and Indian Tribes, or on the distribution of power and responsibilities between the Federal Government and Indian Tribes; therefore, consultation with Tribal officials under E.O. 13175 is not required, and the requirements of sections (5)(b) and (5)(c) of E.O. 13175 also do not apply. A Tribal summary impact statement under section (5)(b)(2)(B) and section (5)(c)(2)(B) of E.O. 13175 is not required and has not been prepared.

Because prior notice and opportunity for public comment are not required for this rule by 5 U.S.C. 553, or any other law, the analytical requirements of the Regulatory Flexibility Act, 5 U.S.C. 601 et seq., are inapplicable.

This final rule contains no information collection requirements under the Paperwork Reduction Act of 1995.

Dated: April 10, 2025.
Samuel D. Rauch, III,
Deputy Assistant Administrator for Regulatory Programs, National Marine Fisheries Service.

[FR Doc. 2025-06472 Filed 4-15-25; 8:45 am]

BILLING CODE 3510-22-P